FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 10355N.

Name: Finlay's Import-Export, Inc. dba Finlay's Ship to Jamaica.

Address: 2712 NW 31st Avenue, Lauderdale Lakes, FL 33311.

Date Revoked: August 3, 2014.

Reason: Failed to maintain a valid bond.

License No.: 019482NF.

Name: Worldwide Integrated Logistics, LLC dba Wil Lines.

Address: 520 Enclave Circle West, Pembroke Pines, FL 33027.

Date Surrendered: August 4, 2014.

Reason: Voluntary surrender of license.

License No.: 021611NF.

Name: Toll Global Forwarding (Americas) Inc.

Address: 800 Federal Boulevard, Carteret, NJ 07008.

Date Surrendered: August 7, 2014.

Reason: Voluntary surrender of license.

License No.: 022283N.

Name: Magic Freight Systems, Inc.

Address: 2410 S. Sierra Drive, Suite 202, Compton, CA 90220.

Date Revoked: August 5, 2014.

Reason: Failed to maintain a valid bond.

License No.: 022956NF.

Name: Everplus Logistics Inc.

Address: 80 Old Tappan Road, Old Tappan, NJ 07675.

Date Surrendered: August 7, 2014.

Reason: Voluntary surrender of license.

License No.: 023672N.

Name: Straight Line Logistics, LLC.

Address: 2250 NW 96th Avenue, Suite 209, Doral, FL 33172.

Date Surrendered: August 7, 2014.

Reason: Voluntary surrender of license.

License No.: 024767N.

Name: BAR Global Logistics, Inc.

Address: 1670 Alvarado Street, Suite 1, San Leandro, CA 94577.

Date Surrendered: August 5, 2014.

Reason: Voluntary surrender of license.

Sandra L. Kusumoto,
Director, Bureau of Certification and Licensing.

[FR Doc. 2014-19724 Filed 8-19-14; 8:45 am]

BILLING CODE 6730-01-P